DEPARTMENT OF COMMERCE

National Oceanic and Atmospheric Administration

50 CFR Part 648

[I.D. 083002C]

Mid-Atlantic Fishery Management Council; Public Hearings

AGENCY: National Marine Fisheries Service (NMFS), National Oceanic and Atmospheric Administration (NOAA), Commerce.

ACTION: Public hearing meetings; request for comments.

SUMMARY: The Mid-Atlantic Fishery Management Council (Council) is currently developing Amendment 13 to the Surfclam and Ocean Quahog Fishery Management Plan (FMP), pursuant to the Magnuson-Stevens Fishery Conservation and Management Act of 1976, as amended. The Council will hold a series of public hearings to solicit comments on proposals to be included in Amendment 13. The intended effect of this action is to alert interested public of the commencement of this hearing process and to provide for public participation.

DATES: Written comments will be accepted through 5 p.m. October 15, 2002. See SUPPLEMENTARY INFORMATION for specific location and dates of the public hearings.

ADDRESSES: Send comments to Daniel T. Furlong, Executive Director of the Mid-Atlantic Fishery Management Council, Room 2115, Federal Building, 300 South New Street, Dover, DE 19904. When submitting comments, identify correspondence as “Comments on Draft Amendment 13.” Copies of the public hearing document and the Draft Environmental Impact Statement (DEIS) for Amendment 13 may be obtained from the Council. Hearings will be held in Maine, New Jersey, and Delaware. See SUPPLEMENTARY INFORMATION for specific locations. Requests for special accommodations should be addressed to the Mid-Atlantic Fishery Management Council, Federal Building, 300 South New Street, Dover, DE 19904.

FOR FURTHER INFORMATION CONTACT: Daniel T. Furlong, Executive Director of the Mid-Atlantic Fishery Management Council, 302-674-2331, ext. 19.>:

SUPPLEMENTARY INFORMATION: The Council proposes to take action to implement Amendment 13 to the FMP. Amendment 13 addresses five major issues: (1) a new surfclam overfishing definition; (2) fishing gear impacts to essential fish habitat (EFH); (3) multi-year quotas; (4) suspension of the surfclam minimum size limit; and (5) a vessel monitoring-type system.

In conjunction with the development of Amendment 13, the Council prepared a DEIS under the National Environmental Policy Act to assess the potential effects of the proposed action, and the alternatives to those actions, on the human environment. A Notice of Availability for the DEIS for Amendment 13 was published in the Federal Register on August 30, 2002 (67 FR 55838). The 45-day comment period for the DEIS ends on October 15, 2002. Copies of the DEIS can be obtained from the Council (see ADDRESSES).

Once it has considered public comments, the Council will approve final management measures and prepare a submission package for NMFS. There will be an additional opportunity for public comment when the Notice of Availability and the proposed rule for Amendment 13 are published in the Federal Register.

Public Hearings

The dates, times, and locations of the hearings are scheduled as follows:

1. Tuesday, September 24, 2002, beginning at 7 p.m.—University of Maine, Science Building, Room 102, Machias, ME; telephone: 207-255-1289.

2. Monday, September 30, 2002, beginning at 7 p.m.—Clarion Hotel and Convention Center, 6821 Black Horse Pike, Atlantic City, NJ; telephone: 609-272-0200.

3. Wednesday, October 2, 2002, beginning at 7 p.m.—Holiday Inn Select, 630 Naamans Road, Claymont, DE; telephone: 302-791-4603. This hearing will be in conjunction with the Mid-Atlantic Fishery Management Council's October meeting at the same location.

Special Accommodations

This meeting is physically accessible to people with disabilities. Requests for sign language interpretation or other auxiliary aids should be directed to Joanna Davis at the Mid-Atlantic Council's office at least 5 days prior to the hearing date.

Dated: August 30, 2002.
Virginia M. Fay,
Acting Director, Office of Sustainable Fisheries, National Marine Fisheries Service.

[FR Doc. 02-22836 Filed 9-6-02; 8:45 am]

BILLING CODE 3510-22-S